NATIONAL TRANSPORTATION SAFETY BOARD

Sunshine Act Meeting; Notice

Time and Date: 9:30 a.m., Tuesday, March 20, 2007. (The time of this meeting has changed to 12:30 p.m.)

Place: NTSB Conference Center, 429 L'Enfant Plaza SW., Washington, DC 20594.

Status: The two items are open to the public.

Matters to be Considered: 7870: Railroad Accident Report—Collision Of Two CN Freight Trains, Anding, Mississippi, July 10, 2005 (DCA-05-MR-011).

7834A: Marine Accident Brief and Safety Recommendation Letter—Fire on Board U.S. Small Passenger Vessel Massachusetts, Boston Harbor, Massachusetts, June 12, 2006.

News Media Contact: Telephone: (202) 314-6100. Individuals requesting specific accommodations should contact Chris Bisett at (202) 314-6305 by Friday, March 16, 2007.

The public may view the meting via alive or archived Webcast by accessing a link under “News & Events” on the NTSB home page at http://www.ntsb.gov.

FOR FURTHER INFORMATION CONTACT: Vicky D' Onofrio, (202) 314-6410.

Dated: March 13, 2007.
Candi R. Bing,
Federal Register Alternate Liaison Officer.

[FR Doc. 07-1283 Filed 3-13-07; 12:38 pm]

BILLING CODE 7533-01-M